INTERNATIONAL TRADE COMMISSION

[Investigation No. 731-TA-747 (Fifth Review)]

Fresh Tomatoes From Mexico; Revised Schedule for the Subject Review

AGENCY: United States International Trade Commission.

ACTION: Notice.

DATES: May 12, 2025.

FOR FURTHER INFORMATION CONTACT: Lawrence Jones (202-205-3358), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this review may be viewed on the Commission's electronic docket (EDIS) at https://edis.usitc.gov.

SUPPLEMENTARY INFORMATION: Effective March 20, 2025, the Commission established a schedule for the conduct of the full review (90 FR 13627, March 25, 2025). On April 14, 2025, Commerce announced the date for its antidumping duty order as July 14, 2025, following its announcement of its intent to withdraw from the 2019 Tomato Suspension Agreement. The Commission is revising its schedule in light of Commerce's pending antidumping duty order. Specifically, the Commission is revising the date when the prehearing staff report will be placed in the nonpublic record to July 31, 2025.

For further information concerning this proceeding, see the Commission's notice cited above and the Commission's Rules of Practice and Procedure, part 201, subparts A through E (19 CFR part 201), and part 207, subparts A and C (19 CFR part 207).

Authority: This review is being conducted under authority of title VII of the Tariff Act of 1930; this notice is published pursuant to § 207.21 of the Commission's rules.

By order of the Commission.
Issued: May 14, 2025.
Lisa Barton,
Secretary to the Commission.

[FR Doc. 2025-08946 Filed 5-19-25; 8:45 am]

BILLING CODE 7020-02-P